Title 3—

The President

Proclamation 10610 of August 31, 2023

National Childhood Cancer Awareness Month, 2023

By the President of the United States of America

A Proclamation

During National Childhood Cancer Awareness Month, we honor the extraordinary courage, strength, and optimism of the tens of thousands of families now fighting the leading cause of death by disease for children: cancer. We remember the bright lives cut short and recommit to ending cancer as we know it, for all those we have lost and all those we can save.

Cancer is brutal no matter whom it strikes, but it is particularly cruel when it affects the youngest among us. When they should be learning in school and playing outside, children with cancer are oftentimes fighting for their lives in hospitals instead. A cancer diagnosis takes a tremendous toll on their family, friends, and community. Caregivers are often left struggling to deal with a flood of medical information, to make sense of treatment options, and to navigate mounting medical bills all while trying to stay hopeful and steal moments of joy with their loved ones.

Over the past 50 years, cancer researchers have made major advances treating some types of pediatric cancer—but we have much more to do. Last year, the First Lady and I reignited the Cancer Moonshot, setting an ambitious new goal to cut America's overall cancer death rate by at least half over the next 25 years, turn more cancers from death sentences into treatable diseases, and improve support for patients and families. As a first step, I worked with the Congress to establish the Advanced Research Projects Agency for Health, securing $2.5 billion in bipartisan funding to develop breakthroughs in preventing, diagnosing, and treating cancer and other deadly diseases and pioneering partnerships to get those breakthroughs out to patients and clinics across the Nation. We're also making lifesaving health care more affordable for millions of American families, expanding health care coverage for families through Medicaid and the Affordable Care Act, and helping millions of families save $800 per year on health insurance premiums.

At the same time, the National Cancer Institute has developed a National Cancer Plan to speed up the development of effective cancer treatments, including those for children. The Institute's Childhood Cancer Data Initiative is also providing free molecular testing of tumors, further helping my Administration implement the RACE for Children Act, to quickly identify and approve precision pediatric cancer drugs. Earlier this year, I was also proud to sign the Childhood Cancer STAR Reauthorization Act, boosting funding for childhood cancer research, including research into late effects of childhood cancer treatment and new ways to care for survivors. And as a part of the Cancer Moonshot, the National Cancer Institute launched the Childhood Cancer-Data Integration for Research, Education, Care, and Clinical Trials, a first-of-its-kind, public-private partnership that will help children, adolescents, and young adults with cancer and their families reach out for support, connect to excellent care, and obtain opportunities to participate in research.

During National Childhood Cancer Awareness Month, we honor the absolute courage of the tens of thousands of children who fight cancer every day and all of the loved ones who support them. And we recognize the medical professionals, researchers, companies, philanthropies, and academic institutions who search tirelessly for early detection methods, better and safer treatments and even cures. Together, we will create a cancer-free future for our kids.

NOW, THEREFORE, I, JOSEPH R. BIDEN JR., President of the United States of America, by virtue of the authority vested in me by the Constitution and the laws of the United States, do hereby proclaim September 2023 as National Childhood Cancer Awareness Month. I encourage citizens, government agencies, private businesses, nonprofit organizations, the media, and other interested groups to increase awareness of what Americans can do to support the fight against childhood cancer. I encourage anyone experiencing uncertainty around risk factors or treatment options, or looking for other opportunities for support to connect with a trained specialist at 1-800-4-CANCER or visit www.cancer.gov.

IN WITNESS WHEREOF, I have hereunto set my hand this thirty-first day of August, in the year of our Lord two thousand twenty-three, and of the Independence of the United States of America the two hundred and forty-eighth.

[FR Doc. 2023-19322

Filed 9-5-23; 8:45 am]

Billing code 3395-F3-P